DEPARTMENT OF HEALTH AND HUMAN SERVICES

National Institutes of Health

Center for Scientific Review; Amended Notice of Meeting

Notice is hereby given of a change in the meeting of the Pregnancy and Neonatology Study Section, June 2, 2008, 8 a.m. to June 3, 2008, 3 p.m., Embassy Suites at the Chevy Chase Pavilion, 4300 Military Road, NW., Washington, DC, 20015 which was published in the Federal Register on April 4, 2008, 73 FR 18539-18542.

The meeting will be held one day only June 2, 2008, from 8 a.m. to 5 p.m. The meeting location remains the same. The meeting is closed to the public.

Dated: April 14, 2008.
Jennifer Spaeth,
Director, Office of Federal Advisory Committee Policy.

[FR Doc. E8-8450 Filed 4-18-08; 8:45 am]

BILLING CODE 4140-01-M